DEPARTMENT OF LABOR

Employment and Training Administration

[TA-W-56,923]

Engineered Machined Products, Inc., Plants 1 and 2, Escanaba, MI; Notice of Termination of Investigation

Pursuant to Section 221 of the Trade Act of 1974, as amended, an investigation was initiated on April 7, 2005 in response to a petition filed by a District Representative of the International Brotherhood of Teamsters, Local #328 on behalf of workers at Engineered Machined Products, Inc., Plants 1 and 2, Escanaba, Michigan.

The petitioner has requested that the petition be withdrawn. Consequently, the investigation has been terminated.

Signed at Washington, DC, this 13th day of May, 2005.
Linda G. Poole,
Certifying Officer, Division of Trade Adjustment Assistance.

[FR Doc. E5-2801 Filed 6-1-05; 8:45 am]

BILLING CODE 4510-30-P